DEPARTMENT OF HEALTH AND HUMAN SERVICES

Health Resources and Services Administration

Supplemental Award; Infant-Toddler Court Program—National Resource Center

AGENCY: Health Resources and Services Administration (HRSA), Department of Health and Human Services.

ACTION: Notice of a HRSA-initiated supplemental award.

SUMMARY: HRSA is providing approximately $1.91 million in supplemental award funds under HRSA-22-074 in fiscal year 2023 to the recipient of the Infant-Toddler Court Program (ITCP)—National Resource Center (NRC) award, to support state and local capacity to implement the ITC approach at sites that previously received funding under HRSA-18-123 but that do not currently receive HRSA funding under HRSA-22-073 or HRSA-22-074. It is also providing approximately $650,000 in supplemental award funds under this notice of funding opportunity (NOFO) to support ITC sites with high need and capacity to provide Medicaid redetermination navigation support to families.

FOR FURTHER INFORMATION CONTACT: Kateryna Zoubak, Early Childhood Systems Analyst, Division of Home Visiting and Early Childhood Systems, Maternal and Child Health Bureau, Health Resources and Services Administration, at ezoubak@hrsa.gov or 240-475-8014.

SUPPLEMENTARY INFORMATION:

Intended Recipient of the Award: ZERO TO THREE National Center for Infant, Toddler and Families, Inc.

Amount of Non-Competitive Award(s): One award of approximately $2.56 million.

Project Period: September 30, 2023, to September 29, 2024.

Assistance Listing (CFDA) Number: 93.110.

Award Instrument: Cooperative Agreement.

Authority: 42 U.S.C. 701(a)(2) (Social Security Act, title V, section 501(a)(2)).

Table 1—Recipients and Award Amounts
Grant No. | Award recipient name | City, State | Award amount
U2DMC32394 | ZERO TO THREE National Center for Infant, Toddler and Families, Inc | DC | $2.56 million (estimated).

Justification: The Consolidated Appropriations Act, 2023, included additional funds that are being used to support ITCs. HRSA understands guidance provided in House Report 117-403 to support the award of additional funds for the NRC to provide implementation support and subject matter expertise to ITC teams and to advance national-level reach and impact of the program, including via subaward funds to local ITC teams who previously received financial support and technical assistance under HRSA-18-123, which was in place in 2022. Both of these objectives will be accomplished through a supplement to the NRC.

The planned supplemental award to the ITCP NRC aligns with the most recent funding opportunity (HRSA-22-074) and program purpose outlined in the NOFO, which is “to continue and expand research-based infant-toddler court teams to change child welfare practices and improve the early developmental health and well-being of infants, toddlers, and their families,” with primary goals to (1) build the capacity of state/territorial/tribal and local teams to implement the ITC approach and lead aligned community-driven efforts to prevent and respond to child maltreatment; and (2) advance the evidence and national reach, impact, and sustainability of the ITC approach. Additional expectations of the NRC in HRSA-22-074 include that it will “lead and coordinate improvements nationwide to policy and practice in child welfare and early childhood systems” and “provide a range of tailored supports to states and local sites that implement the ITC approach” that “build upon previously-funded ITCP efforts” (e.g., funding awards under HRSA-18-123). Additionally, under the NOFO, the NRC advances the objective of increasing the spread, scale, and coordination of local ITC sites across States, Territories, jurisdictions, and Tribal nations.

HRSA will award approximately $1.91 million to the current ITCP NRC recipient. This funding will enhance resource development, provision of subject matter expertise, the building of capacity to implement the ITC approach, further develop national-level partnerships, and provide subawards to local court teams that were previously funded under HRSA-18-123 (but not under HRSA-22-074/073), which will advance the national reach, impact, and sustainability of ITC teams. In addition, HRSA will provide a supplement of approximately $650,000 to enable subawards to local ITC sites with high need and capacity to provide Medicaid redetermination navigation support to families. It will support core objectives related to timely service access and program expectations in the NOFO.

Carole Johnson,
Administrator.

[FR Doc. 2023-18051 Filed 8-21-23; 8:45 am]

BILLING CODE 4615-15-P